DEPARTMENT OF JUSTICE

Office of Justice Programs

Agency Information Collection Activities: Proposed Collection; Comment Requested

ACTION: 60-day notice of information collection under review: Reinstatement, with change, of a previously approved collection for which approval has expired: The Annual Survey of Jails, Forms CJ-5, CJ-5A, CJ-5B.

The Department of Justice, Office of Justice Programs, Bureau of Justice Statistics (BJS) has submitted the following information collection request to the Office of Management and Budget (OMB) for review and approval in accordance with the Paperwork Reduction Act of 1995. The proposed information collection is published to obtain comments from the public and affected agencies.

Comments are encouraged and will be accepted for “sixty days” until March 5, 2002. This process is conducted in accordance with 5 CFR 1320.10.

If you have additional comments, suggestions, or additional information, especially regarding the estimated public burden and associated response time, please write to Lawrence A. Greenfeld, Acting Director, Bureau of Justice Statistics, 810 Seventh St. NW., Washington, DC 20531. If you need a copy of the collection instruments with instructions, or have additional information, please contact Jennifer Karberg at (202) 307-1043, or via facsimile at (202) 514-1757.

Written comments and suggestions from the public and affected agencies concerning the proposed collection of information should address one or more of the following four points:

(1) Evaluate whether the collection of information is necessary for the proper performance of the functions of the agency, including whether the information will have practical utility;

(2) Evaluate the accuracy of the agency's estimate of the burden of the collection of information, including the validity of the methodology and assumptions used;

(3) Enhance the quality, utility and clarity of the information to be collected; and

(4) Minimize the burden of the collection of information on those who are to respond, including through the use of appropriate automated, electronic, mechanical, or other technological collection techniques or other forms of information technology, e.g. permitting electronic submission of responses.

Overview of This Information Collection

(1) Type of information collection: Reinstatement, with change, of a previously approved collection for which approval has expired:

(2) The title of the Form/Collection: The Annual Survey of Jails.

(3) The agency form number and the applicable component of the Department sponsoring the collection: Forms: CJ-5, CJ-5A, CJ-5B. Corrections Statistics, Bureau of Justice Statistics, Office of Justice Programs, United States Department of Justice.

(4) Affected public who will be asked to respond, as well as a brief abstract: Primary: County and City jail authorities and Tribal authorities. The “Annual Survey of Jails” (ASJ) is the only collection effort that provides an ability to maintain important jail statistics in years between jail censuses. The ASJ enables the Bureau; Federal, State, and local correctional administrators; legislators; researchers; and planners to track growth in the number of jails and their capacities nationally; as well as, track changes in the demographics and supervision status of jail population and the prevalence of crowding.

(5) An estimate of the total number of respondents and the amount of time needed for an average respondent to respond: There are approximately 946 respondents responding to the survey, each taking an average 1.25 hours to respond.

(6) An estimate of the total public burden (in hours) associated with the collection: There are an estimated 1,180 annual burden hours associated with this information collection.

If additional information is required, contact: Mrs. Brenda E. Dyer, Deputy Clearance Officer, United States Department of Justice, Information Management and Security Staff, Justice Management Division, Suite 1600, Patrick Henry Building, 601 D Street, NW., Washington, DC 20530.

Dated: December 19, 2001.
Brenda E. Dyer,
Department Deputy Clearance Officer, Department of Justice.

[FR Doc. 02-158 Filed 1-3-02; 8:45 am]

BILLING CODE 4410-18-M